DEPARTMENT OF VETERANS AFFAIRS

Notice of Funds Availability Inviting Applications for the Rural Veterans Coordination Pilot

AGENCY: Department of Veterans Affairs.

ACTION: Notice of Fund Availability.

SUMMARY: The Department of Veterans Affairs (VA) is announcing the availability of funds for applications for assistance under the Rural Veterans Coordination Pilot (RVCP). This Notice of Funding Availability (NOFA) includes funding priorities for those applicants who will assist veterans and their families who are transitioning from military service to civilian life in rural or underserved communities. This Notice contains information concerning the program, funding priorities, application process, and the amount of funding available.

DATES: Applications must be received in accordance with this NOFA no later than 5:00 p.m. eastern standard time, on July 19, 2013.

FOR FURTHER INFORMATION CONTACT: Karen Malebranche, Veterans Health Administration, Office of Interagency Health Affairs (10P5), 810 Vermont Avenue NW., Washington, DC 20420, telephone (202) 461-4001. (This is not a toll-free number.)

For A Copy of the Application Package: Download directly from http://www.ruralhealth.va.gov/coordination-pilot/index.asp. Questions should be referred to the RVCP Program Office at (202) 461-4001. (This is not a toll-free number.) For detailed program information and requirements, see the final rule published in the Federal Register (78 FR 12617) on February 25, 2013, which is codified at 38 CFR part 64.

Submission of Applications: Applications must be uploaded as a complete package into Grants.gov.

A. Purpose: VA is pleased to issue this NOFA for the RVCP program to provide grants to community-based organizations and local and state government entities to assist veterans who are transitioning from military service to civilian life in rural or underserved communities and families of such veterans. VA expects to award a total of five grants each in the amount of 2 million dollars to five separate grantees for a 2-year pilot program, pursuant to the terms of 38 CFR part 64.

B. Definitions, Regulations, and Authority: Definitions of terms applicable to the RVCP program are found at 38 CFR 64.2. The types of programs and services (namely, coordination, health-related assistance, family assistance, and outreach services) for which these grant funds may be used are described in 38 CFR 64.6(a)(1)-(4). Funding applied for under this Notice is authorized by Section 506 of the Caregivers and Veterans Omnibus Health Services Act of 2010, Public Law 111-163 (May 5, 2010). Funds made available under this Notice are subject to the requirements of applicable laws and regulations.

C. Submission of Application: To apply for an RVCP grant, eligible entities must submit a complete application package. Applications will be accepted only through http://www.Grants.gov. Applications may not be sent by fax. In the interest of fairness to all competing applicants, this deadline is firm as to date and hour, and VA will not consider any application that is received after the deadline. Applicants should consider submitting early to avoid any risk of loss of eligibility brought about by computer service outages. For a copy of the application package, download directly from http://www.Grants.gov. Applications must arrive as a complete package. Materials arriving separately will not be included in the application package for consideration and may result in the application being rejected or not funded. Applicants should ensure that the items listed in the application requirement, section L of this NOFA, are addressed in their application.

D. Allocation: Ten million dollars is available under this Notice for a 2-year period. Five grants will be awarded under this NOFA and each grant will be in the amount of 2 million dollars.

E. Approach: Grantees will be expected to use grant funds to enhance coordination of health care and other benefits for eligible participants. This funding is not intended to provide veteran direct care and benefit programs. This program necessitates the grantee having or developing collaborative working relationships with a wide range of health care and other benefit service providers to facilitate referrals for needed services. It is anticipated that the majority of the services will be provided by the grantee through active and direct referrals to other providers in the grantee's location.

F. VA's Goals and Objectives for Funds Awarded Under this Notice: In accordance with 38 CFR part 64, VA will evaluate an applicant's ability to meet VA's goals and objectives for this grant program. VA's goals and objectives include the following: providing outreach services, to include making personal contact with eligible participants; providing comprehensive assessments on the needs of eligible participants; providing coordination of health care and other benefits for eligible participants; conducting post-referral and post-appointment communications with eligible participants to ensure satisfaction with the outcome; similar communications will also occur with collaborating providers to ensure health care and benefits were rendered; increasing the coordination among the organizations providing care and benefits services to eligible participants; increasing the availability and access of care and benefits to eligible participants by collaborating with community-based providers.

G. Authority: Public Law 111-163, the Caregivers and Veterans Omnibus Health Services Act of 2010, was signed into law on May 5, 2010. Title V, section 506 directs the Secretary of Veterans Affairs to carry out a 2-year grant program to assess the feasibility and advisability of using community-based organizations and local and state government entities to increase the coordination of health care and benefits for veterans transitioning to civilian life.

H. Grant Award Period: Grants awarded will be for a 2-year period, in accordance with 38 CFR 64.4, subject to the availability of VA funds.

I. Requirements for Use of Grant Funds: Grantees must operate their programs in a manner consistent with the terms set forth in the Final Rule and this Notice. Grantees must maximize the use of RVCP grants by ensuring that at least 90 percent of funds awarded are used to provide services designed to aid in the adjustment to civilian life in one or more of the following areas: increase coordination of health care and benefits for veterans; increase availability of high quality medical and mental health services; provide assistance to families of transitioning veterans; and outreach to veterans and families.

J. Application Process: Applications will be submitted through http://www.Grants.gov, which is a “one-stop storefront” that provides a unified process for all customers of Federal awards to find funding opportunities and apply for funding. Complete instructions on how to register and submit an application can be found at http://www.Grants.gov. If the applicant experiences technical difficulties at any point during this process, please call the Grants.gov Customer Support Hotline at (800) 518-4726, 24 hours a day, 7 days a week, except Federal holidays. Registering with Grants.gov is a one-time process; however, processing delays may occur, and it can take up to several weeks for first-time registrants to receive confirmation and a user password. VA highly recommends that applicants start the registration process as early as possible to prevent delays in submitting an application package by the specified application deadline.

K. Application Selection Methodology: VA will review all timely and complete grant applications submitted in response to this NOFA. VA will rank from highest to lowest those applications that score at least 60 cumulative points, using the criteria in section 38 CFR 64.12(a). See section L for more information on the selection process.

L. Scoring and Selection:

(a) Scoring. VA will score only complete applications received from eligible entities in accordance with this NOFA no later than 5:00 p.m. eastern standard time, on July 19, 2013. Applications will be scored using the following criteria:

(1) Background, organizational history, qualifications, and past performance (maximum 10 points). Applicant documents a relevant history of successfully providing the type of services proposed in the RVCP grant application, particularly in the location the applicant plans to serve veterans and their families.

(2) Need for pilot project (maximum 10 points). Applicant demonstrates the need for the pilot project in the proposed project location, and provides evidence that the applicant understands the unique needs of veterans and their families in the location to be served.

(3) Pilot project concept, innovation, and ability to meet VA's objectives (maximum 40 points). Application shows appropriate concept, size, and scope of the project; provides realistic estimates of time, staffing, and material needs to implement the project; and details the project's ability to enhance the overall services provided, while presenting realistic plans to reduce duplication of benefits and services already in place. Application must describe a comprehensive and well-developed plan to meet one or more of the permissible uses set out in § 64.6.

(4) Pilot project evaluation and monitoring (maximum 10 points). Self-evaluation and monitoring strategy provided in application is reasonable and expected to meet requirements of § 64.10(b) (5).

(5) Organizational finances (maximum 10 points). Applicant provides documentation that the organization is financially stable, has not defaulted on financial obligations, has adequate financial and operational controls in place to ensure the proper use of RVCP grants, and presents a plan for using RVCP grants that is cost effective and efficient.

(6) Pilot project location (maximum 20 points). Applicant documents how the proposed project location meets the definition of rural or underserved communities in this part.

(b) Selection of Grantees.

As explained above, all timely and complete applications that obtain a score of 60 points will be ranked from highest to lowest total score. VA will award one RVCP grant to the highest scoring application. VA will award RVCP grants to each successive application, ranked by total score, provided the applicant has not been awarded an RVCP grant for a higher scoring application and the proposed project is not in the same project location as any previously awarded RVCP grant. A total of five grants will be awarded for a 2-year period, with each grantee receiving 2 million dollars. To the extent practicable, VA will ensure RVCP grants are equitably distributed across geographic regions to include local and state governments and tribal lands.

M. Payment of Grant Funds: Grantees will receive payments electronically through the U.S. Department of Health and Human Services Payment Management System (HHS PMS). Grantees will have the ability to request payments as frequently as they choose subject to the following limitations: during the first quarter of the grantee's grant award period, the grantee's cumulative requests for funds may not exceed 30 percent of the total grant award without written approval by VA; during each successive period the grantee may request up to 10 percent of the total award by VA. By the end of the grantee's grant award period, the grantee's cumulative requests for grant funds may not exceed 100 percent of the total grant award.

N. Monitoring: VA places great emphasis on the responsibility and accountability of grantees. Applicants should be aware of the following: upon execution of a grant agreement with VA, grantees will have a liaison appointed by VA who will provide oversight and monitor services provided to participants. All grantees must submit to VA quarterly reports based on the Federal fiscal year, which include the following information:

(a) Quarterly reports. All grantees must submit to VA quarterly reports based on the Federal fiscal year, which include the following information:

(1) Record of time and resources expended in outreach activities, and the methods used;

(2) The number of participants served, including demographics of this population;

(3) Types of assistance provided;

(4) A full accounting of RVCP grant funds received from VA and used or unused during the quarter; and

(5) Results of routine monitoring and any project variations.

(b) Submission of reports. Reports must be submitted to VA no later than 15 calendar days after the close of each Federal fiscal quarter.

(c) Additional reports. VA may request additional reports to allow VA to fully assess project accountability and effectiveness. The grantee will be expected to demonstrate adherence to their program concept, as described in their application. Grantees will be required to provide each participant with instructions on how to complete satisfaction surveys to be submitted directly to VA via http://www.ruralhealth.va.gov/coordination-pilot/index.asp. Surveys should be submitted to VA within 30 days of the participant's entry into the grantee's program and again within 30 days of such participant's pending exit from the program, or within 30 days of receiving services if on a one-time basis.

O. Technical Assistance: Information regarding how to obtain technical assistance with the preparation of a RVCP grants application, including information on grant-writing workshops, is available on http://www.ruralhealth.va.gov/coordination-pilot/index.asp.

Signing Authority

The Secretary of Veterans Affairs, or designee, approved this document and authorized the undersigned to sign and submit the document to the Office of the Federal Register for publication electronically as an official document of the Department of Veterans Affairs. Jose D. Riojas, Interim Chief of Staff, Department of Veterans Affairs, approved this document on May 28, 2013, for publication.

Dated: May 30, 2013,
William F. Russo,
Deputy Director, Office of Regulation Policy and Management, Office of the General Counsel, Department of Veterans Affairs.

[FR Doc. 2013-13163 Filed 6-3-13; 8:45 am]

BILLING CODE 8320-01-P